DEPARTMENT OF LABOR

Agency Information Collection Activities; Comment Request; Standard Job Corps Contractor Information Gathering; Correction

ACTION: Notice of availability; correction.

SUMMARY: The Department of Labor (DOL) is correcting a notice that appeared in the Federal Register on May 2, 2025. Subsequent to publication of the notice, the DOL discovered that the Office of Management and Budget (OMB) Control Number listed in the Supplementary Information section was listed incorrectly. DOL is issuing this correction to provide the correct OMB Control Number.

DATES: This correction is effective on May 9, 2025.

FOR FURTHER INFORMATION CONTACT: Michael Howell by telephone at 202-693-6782, or by email at DOL_PRA_PUBLIC@dol.gov.

SUPPLEMENTARY INFORMATION: In FR Doc. 2025-07672 appearing at 90 FR 18870 in the Federal Register of Friday, May 2, 2025, the following correction is made:

1. On page 18870, in the Supplementary Information section, under the section titled OMB Control Number, the OMB Control Number should list, “1219-0219”.

Michael Howell,
Senior Paperwork Reduction Act Analyst.

[FR Doc. 2025-08105 Filed 5-8-25; 8:45 am]

BILLING CODE 4510-FN-P